DEPARTMENT OF HOMELAND SECURITY

Welcome to the DHS Enterprise e-Recruitment System

AGENCY: Office of the Chief Human Capital Officer, DHS.

ACTION: 60-Day Notice and request for comments; Information Collection submission for OMB Review.

SUMMARY: The Department of Homeland Security, Office of the Chief Human Capital Officer has submitted the following information collection request (ICR) to the Office of Management and Budget (OMB) for review and clearance in accordance with the Paperwork Reduction Act of 1995 (Pub. L. 104-13, 44 U.S.C. Chapter 35).

DATES: Comments are encouraged and will be accepted until January 26, 2009. This process is conducted in accordance with 5 CFR 1320.1.

ADDRESSES: Comments and questions about this Information Collection Request should be forwarded to the Office of the Chief Human Capital Officer, Attn: Mabeline Hall for the Department of Homeland Security/CHCO, 245 Murray Lane SW., Building 410, Washington, DC 20528.

FOR FURTHER INFORMATION CONTACT: Mabeline Hall, 202-357-8272 (this is not a toll free number).

SUPPLEMENTARY INFORMATION: The Department of Homeland Security (DHS), Office of the Chief Human Capital Officer (OCHCO) is implementing an enterprise e-Recruitment system for DHS. The use of an automated recruitment solution is necessary to meet mission critical needs of DHS and comply with the 45-day hiring model under the President's Management Agenda.

Technology-enabled recruitment can deliver both time savings and improved results. Based on an internal inventory of DHS human resource (HR) systems, more than 50 systems are currently used by DHS components to perform hiring/recruitment related activities. As part of the effort to consolidate and modernize the HR systems, the OCHCO is leading an effort to consolidate towards an automated enterprise solution that can contribute to material improvements in the overall hiring process.

Working in close collaboration, OCHCO's Human Capital Business System (HCBS) and Human Capital units defined the key project goals. The overall vision for the e-Recruitment initiative is to implement a state-of-the-art system that automates hiring/recruitment processes across DHS and seamlessly integrates with other related DHS services.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

This collection is designed to further allow DHS to plan recruitment efforts based on workforce analytics regarding turnover rates and expected budget/FTE allocations; proactively recruit for anticipated vacancies to reduce the time-to-hire; automate employee referrals, applications, pre-screening, resume management, candidate tracking, and candidate rating and ranking; provide applicant workflow, communications, interview management, reference/background checking, and “on-boarding” services; provide regulatory and analytical reports for both recruiters and hiring managers. Response by applicants is optional. Any information obtained by DHS will be used only for evaluating applicants for job opportunities by rating and ranking the applications based upon the qualifications and skills outlined by the job vacancy announcement. All responses are treated in a highly confidential manner and responses may be verified for accuracy and completeness.

Analysis

AGENCY: Department of Homeland Security, Office of the Chief Human Capital Officer.

Title: DHS Enterprise e-Recruitment System.

OMB Number: 1601-New.

Frequency: On-going collection.

Affected Public: All individuals anticipating applying for an employment opportunity with the Department of Homeland Security Headquarters Division.

Number of Respondents: 10,000.

Estimated Time Per Respondent: 2 Hours.

Total Burden Hours: 10,000 × 2 = 20,000.

Total Burden Cost (capital/startup): $20,341,958.00.

Total Burden Cost (operating/maintaining): $39,845,675.00.

Dated: November 18, 2008.
Richard Mangogna,
Chief Information Officer.

[FR Doc. E8-28036 Filed 11-24-08; 8:45 am]

BILLING CODE 4410-10-P